NUCLEAR REGULATORY COMMISSION

[NRC-2011-0028]

Biweekly Notice; Applications and Amendments to Facility Operating Licenses Involving No Significant Hazards Considerations

I. Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from January 13, 2011 to January 26, 2011. The last biweekly notice was published on January 25, 2011 (76 FR 4381).

Notice of Consideration of Issuance of Amendments to Facility Operating Licenses, Proposed No Significant Hazards Consideration Determination and Opportunity for a Hearing

The Commission has made a proposed determination that the following amendment requests involve no significant hazards consideration. Under the Commission's regulations in Title 10 of the Code of Federal Regulations (10 CFR) 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Room O1-F21, 11555 Rockville Pike (first floor), Rockville, Maryland 20852-2738.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Room O1-F21, 11555 Rockville Pike (first floor), Rockville, Maryland 20852-2738. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/EHD/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Room O1-F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Carolina Power & Light Company, Docket Nos. 50-325 and 50-324, Brunswick Steam Electric Plant, Units 1 and 2, Brunswick County, North Carolina.

Date of amendment request: September 13, 2010.

Description of amendment request: The proposed license amendments would revise Brunswick Steam and Electric Plant, Units 1 and 2 Technical Specification (TS) 5.3.1, “Facility Staff Qualifications.” Specifically, TS 5.3.1 would be revised to be consistent with existing TS 5.2.2.f regarding senior reactor operator (SRO) requirements for the operations manager.

Basis for proposed no significant hazards consideration determination: As required by 10 CFR 50.91(a), the licensee has provided its analysis of the issue of no significant hazards consideration, which is presented below:

1. Does the proposed change involve a significant increase in the probability or consequences of an accident previously evaluated?

Response: No.

The change to TS 5.3.1 corrects a discrepancy between TS 5.3.1 and TS 5.2.2.f regarding the operation manager SRO requirements. This change is administrative in nature and does not affect the qualification requirements for the operations manager which were previously approved by the NRC. The proposed change does not directly affect plant operations. The change does not physically alter the facility in any manner and, as such, does not affect the means in which any safety-related system performs its intended safety function. Therefore, the proposed amendments do not involve a significant increase in the probability or consequences of an accident previously evaluated.

2. Does the proposed change create the possibility of a new or different kind of accident from any accident previously evaluated?

Response: No.

The proposed license amendment does not create the possibility of a new or different kind of accident from any accident previously evaluated. As stated above, the proposed change is administrative in nature. It does not involve physical alterations of the plant configuration or changes in setpoints or operating parameters. Therefore, there is no possibility of creating a new or different kind of accident.

3. Does the proposed change involve a significant reduction in a margin of safety?

Response: No.

The change to TS 5.3.1 is administrative in nature, correcting a discrepancy between TS 5.3.1 and TS 5.2.2.f regarding the operation manager SRO requirements. As documented in the November 4, 1998, safety evaluation for BSEP amendments 204 and 234 to the BSEP Unit 1 and 2 TSs, respectively, the requirements of TS 5.2.2.f: (1) ensure that operations management maintains in-depth, plant-specific knowledge and are consistent with the intent of ANSI-N18.1-1971, (2) ensure that operations management can effectively interface with day-to-day operational aspects of control room activities and can communicate operational issues to higher levels of plant and utility management, and (3) are consistent with 10 CFR 50.54(1), which requires individuals responsible for directing the licensed activities of licensed operators to hold an SRO license. Therefore, the proposed amendments do not result in a significant reduction in the margin of safety.

The NRC staff has reviewed the licensee's analysis and, based on this review, it appears that the three standards of 10 CFR 50.92(c) are satisfied. Therefore, the NRC staff proposes to determine that the amendment request involves no significant hazards consideration.

Attorney for licensee: David T. Conley, Associate General Counsel II—Legal Department, Progress Energy Service Company, LLC, Post Office Box 1551, Raleigh, NC 27602.

NRC Branch Chief: Douglas A. Broaddus.

Exelon Generation Company, LLC, Docket No. 50-461, Clinton Power Station, Unit 1, DeWitt County, Illinois

Date of amendment request: October 8, 2010.

Description of amendment request: The proposed changes revise Technical Specification (TS) 3.8.3, “Diesel Fuel Oil, Lube Oil, and Starting Air,” by relocating the current stored diesel fuel oil and lube oil numerical volume requirements from the TS to the TS Bases so that they may be modified under licensee control. The TS are being modified so that the stored diesel fuel oil and lube oil inventory will require that a 7-day supply be available for each diesel generator. Condition A and Condition B in the Action table are being revised and Surveillance Requirements (SRs) 3.8.3.1 and 3.8.3.2 are being revised to reflect the above change. In addition, the reference to Appendix B of American National Standards Institute (ANSI) N195-1976, “Fuel Oil Systems for Standby Diesel Generators,” in the TS Bases is deleted. Instead, ANSI N195-1976 will be referenced. Reference to Appendix B of ANSI N195-1976 in the TS Bases is not required. ANSI N195-1976 and Regulatory Guide 1.137, Revision 1, “Fuel-Oil Systems for Standby Diesel Generators,” are the current TS Bases references.

Basis for proposed no significant hazards consideration determination: As required by 10 CFR 50.91(a), the licensee has provided its analysis of the issue of no significant hazards consideration which is presented below:

1. Does the proposed change involve a significant increase in the probability or consequences of an accident previously evaluated?

Response: No.

The proposed change relocates the volume of diesel fuel oil and lube oil required to support 7-day operation of the onsite diesel generators, and the volume equivalent to a 6-day supply, to licensee control. The specific volume of fuel oil equivalent to a 7- and 6-day supply is calculated using the maximum post loss of coolant accident load demands applied for the entire seven day and six day periods. The specific volume of lube oil equivalent to a 7- and 6-day supply is based on the diesel generator manufacturer's consumption values for the run time of the diesel generator. Because the requirement to maintain a 7-day supply of diesel fuel oil and lube oil is not changed and is consistent with the assumptions in the accident analyses, and the actions taken when the volume of fuel oil and lube oil are less than a 6-day supply have not changed, neither the probability nor the consequences of any accident previously evaluated will be affected. Therefore, the proposed change does not involve a significant increase in the probability or consequences of an accident previously evaluated.

2. Does the proposed change create the possibility of a new or different kind of accident from any accident previously evaluated?

Response: No.

The proposed change does not involve any physical alteration of the plant (i.e., no new or different type of equipment will be installed), or a change in the methods governing normal plant operation. The change does not alter assumptions made in the safety analysis but ensures that the diesel generators operate as assumed in the accident analysis. The proposed change is consistent with the safety analysis assumptions. Therefore, the proposed change does not create the possibility of a new or different kind of accident from any accident previously evaluated.

3. Does the proposed change involve a significant reduction in a margin of safety?

Response: No.

The proposed change relocates the volume of diesel fuel oil and lube oil required to support 7-day operation of the onsite diesel generators, and the volume equivalent to a 6-day supply, to licensee control. As the bases for the existing limits on diesel fuel oil and lube oil are not changed, no change is made to the accident analysis assumptions and no margin of safety is reduced as part of this change. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Nuclear, 4300 Winfield Road, Warrenville, IL 60555.

NRC Branch Chief: Robert D. Carlson.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Room O1-F21, 11555 Rockville Pike (first floor), Rockville, Maryland 20852-2738. Publicly available records will be accessible from the Agencywide Documents Access and Management System (ADAMS) Public Electronic Reading Room on the Internet at the NRC Web site, http://www.nrc.gov/reading-rm/adams.html. If you do not have access to ADAMS or if there are problems in accessing the documents located in ADAMS, contact the PDR Reference staff at 1-800-397-4209, 301-415-4737 or by e-mail to pdr.resource@nrc.gov.

Arizona Public Service Company, et al., Docket Nos. STN 50-528, STN 50-529, and STN 50-530, Palo Verde Nuclear Generating Station, Unit 1, 2, and 3, Maricopa County, Arizona

Date of application for amendment: April 29, 2010, as supplemented by letter dated August 24, 2010.

Brief description of amendment: The amendments revised the Technical Specifications (TSs) to incorporate Technical Specifications Task Force (TSTF) change traveler TSTF-479-A, “Changes to Reflect Revision of 10 CFR 50.55a,” as modified by TSTF-497-A, “Limit Inservice Testing Program SR [Surveillance Requirement] 3.0.2 Application to Frequencies of 2 Years or Less.” Specifically, the changes associated with TSTF-479-A replaced the reference in TS 5.5.8, “Inservice Testing Program,” to the American Society of Mechanical Engineers (ASME) Boiler and Pressure Vessel Code with a reference to the ASME Code for Operation and Maintenance of Nuclear Power Plants (OM Code) and specified that the extension allowance of SRs is applicable to the frequencies in the Inservice Testing Program. The changes associated with TSTF-497-A limited the applicability of SR 3.0.2 to frequencies of 2 years or less. In addition, the amendment removed the reference to component supports for consistency with the Standard Technical Specifications because the supports are included in the licensee's Inservice Inspection Program.

Date of issuance: January 19, 2011.

Effective date: As of the date of issuance and shall be implemented within 90 days from the date of issuance.

Amendment No.: Unit 1—184; Unit 2—184; Unit 3—184.

Facility Operating License Nos. NPF-41, NPF-51, and NPF-74: The amendment revised the Operating Licenses and Technical Specifications.

Date of initial notice in Federal Register: July 27, 2010 (75 FR 44023). The supplemental letter dated August 24, 2010, provided additional information that clarified the application, did not expand the scope of the application as originally noticed, and did not change the staff's original proposed no significant hazards consideration determination as published in the Federal Register.

The Commission's related evaluation of the amendments is contained in a Safety Evaluation dated January 19, 2011.

No significant hazards consideration comments received: No.

Detroit Edison Company, Docket No. 50-341, Fermi 2, Monroe County, Michigan

Date of application for amendment: January 4, 2010, supplemented by letter dated October 22, 2010.

Brief description of amendment: The amendment revises the core spray flow requirement in the Technical specifications Surveillance Requirements 3.5.1.8 and 3.5.2.6 from 6350 gallons per minute (gpm) to 5725 gpm (at a discharge head corresponding to a reactor pressure of 100 psig) consistent with the flow assumed in the Emergency Core Cooling System safety analysis evaluations.

Date of issuance: January 24, 2011.

Effective date: As of the date of issuance and shall be implemented within 60 days.

Amendment No.: 184.

Facility Operating License No. NPF-43: Amendment revised the Technical Specifications and License.

Date of initial notice in Federal Register: April 20, 2010 (75 FR 20631). The supplemental letters contained clarifying information and did not change the initial no significant hazards consideration determination, and did not expand the scope of the original application.

The Commission's related evaluation of the amendment is contained in a Safety Evaluation dated January 24, 2011.

No significant hazards consideration comments received: No.

Entergy Nuclear Operations, Inc., Docket No. 50-286, Indian Point Nuclear Generating Unit 3, Westchester County, New York

Date of application for amendment: November 19, 2009, as supplemented on January 28 and December 16, 2010.

Brief description of amendment: The amendment revises the test acceptance criteria specified in the Technical Specifications for the emergency diesel generator endurance test surveillance.

Date of issuance: January 25, 2011.

Effective date: As of the date of issuance, and shall be implemented within 120 days.

Amendment No.: 242.

Facility Operating License No. DPR-64: The amendment revised the License and the Technical Specifications.

Date of initial notice in Federal Register: March 9, 2010 (75 FR 10829). The January 28 and December 16, 2010, supplements provided additional information that clarified the application, did not expand the scope of the application as originally noticed, and did not change the NRC staff's original proposed no significant hazards consideration determination as published in the Federal Register.

The Commission's related evaluation of the amendment is contained in a Safety Evaluation dated January 25, 2011.

No significant hazards consideration comments received: No.

Entergy Nuclear Operations, Inc., Docket No. 50-293, Pilgrim Nuclear Power Station, Plymouth County, Massachusetts

Date of application for amendment: January 24, 2010, as supplemented by letters dated September 7 and November 4, 2010.

Brief description of amendment: This amendment request would revise the Technical Specifications (TSs) Section 1.0, Definitions, TS Section 3.6, Primary System Boundary Specifications 3.6.A, and TS Programs and Manuals Section 5.5, to include reference to the Pressure and Temperature Limits Report (PTLR). The proposed PTLR would include revised 43 effective full-power years pressure-temperature curves, neutron fluence, and adjusted reference temperature values.

Date of issuance: January 26, 2011.

Effective date: As of the date of issuance, and shall be implemented within 60 days.

Amendment No.: 234.

Facility Operating License No. DPR-35: The amendment revised the License and Technical Specifications.

Date of initial notice in Federal Register: April 6, 2010 (75 FR 17443). The supplemental letters dated September 7 and November 4, 2010, provided additional information that clarified the application, did not expand the scope of the application as originally noticed, and did not change the staff's original proposed no significant hazards consideration determination.

The Commission's related evaluation of this amendment is contained in a Safety Evaluation dated January 26, 2011.

No significant hazards consideration comments received: No.

Pacific Gas and Electric Company, Docket Nos. 50-275 and 50-323, Diablo Canyon Nuclear Power Plant, Unit 1 and 2, San Luis Obispo County, California

Date of application for amendments: July 3, 2009, as supplemented by letters dated April 9 and July 22, 2010.

Brief description of amendments: The amendments revised Technical Specification (TS) 3.4.15, “RCS [Reactor Coolant System] Leakage Detection Instrumentation.” Specifically, the amendments added a new Condition D for any inoperable containment sump monitor, the containment atmosphere particulate radioactivity monitor, and the containment fan cooler unit (CFCU) condensate collection monitor, and revised TS 3.4.15 Condition A, Required Action A.2, Condition B, Required Action B.2 and the associated TS Bases. The amendment request is consistent with Technical Specification Task Force (TSTF) Traveler TSTF-513, “Revise PWR [Pressurized-Water Reactor] Operability Requirements and Actions for RCS Leakage Instrumentation,” with the exception of Condition E. To be consistent with the final version of TSTF-513 published in the Federal Register on January 3, 2011 (76 FR 189), as part of the consolidated line item improvement process, the NRC staff has denied the proposed change to TS 3.4.15 Condition E. The basis for the removal of Condition E from the TSTF is discussed in TSTF-513, Revision 3 (Agencywide Documents Access and Management System (ADAMS) Accession No. ML102360355).

Date of issuance: January 24, 2011.

Effective date: As of its date of issuance and shall be implemented within 180 days from the date of issuance.

Amendment Nos.: Unit 1-209; Unit 2-211.

Facility Operating License Nos. DPR-80 and DPR-82: The amendments revised the Facility Operating Licenses and Technical Specifications.

Date of initial notice in Federal Register: August 25, 2009 (74 FR 42928). The supplemental letters dated April 9 and July 22, 2010, provided additional information that clarified the application, did not expand the scope of the application as originally noticed, and did not change the staff's original proposed no significant hazards consideration determination as published in the Federal Register.

The Commission's related evaluation of the amendments is contained in a Safety Evaluation dated January 24, 2011.

No significant hazards consideration comments received: No.

Southern Nuclear Operating Company, Inc., Georgia Power Company, Oglethorpe Power Corporation, Municipal Electric Authority of Georgia, City of Dalton, Georgia, Docket Nos. 50-424 and 50-425, Vogtle Electric Generating Plant, Units 1 and 2, Burke County, Georgia

Date of application for amendments: June 15, 2010, as supplemented on January 7, 2011.

Brief description of amendments: The amendments relocate specific surveillance frequency requirements to a licensee controlled program using the Technical Specification Task Force (TSTF) recommendation 425-A Revision 3.

Date of issuance: January 19, 2011.

Effective date: As of the date of issuance and shall be implemented within 120 days from the date of issuance.

Amendment Nos.: 158 and 140.

Renewed Facility Operating License Nos. NPF-68 and NPF-81: Amendments revised the licenses and the technical specifications.

Date of initial notice in Federal Register: August 24, 2010 (75 FR 52042).

The Commission's related evaluation of the amendments is contained in a Safety Evaluation dated January 19, 2011.

No significant hazards consideration comments received: No.

Virginia Electric and Power Company, Docket Nos. 50-338 and 50-339, North Anna Power Station, Units 1 and 2, Louisa County, Virginia

Date of application for amendment: January 29, 2010.

Brief description of amendment: The amendments revised an Emergency Action Level (EAL) scheme based on NUREG-0654, “Criteria for Preparation and Evaluation of Radiological Emergency Response Plan and Preparedness in Support of Nuclear Power Plants,” to one based on Nuclear Energy Institute (NEI) 99-01, “Methodology for Development of Emergency Action Levels,” Revision 4. This would change the methodology for deriving selected Notification of Unusual Event values in Table R-1, Gaseous Effluent Monitor Classification Thresholds, and deleting EAL RA2.4 which evaluates abnormal radiation readings at infrequently accessed areas and revise the radiation level threshold values for reactor coolant system (RCS) letdown indication.

Date of issuance: January 26, 2011.

Effective date: As of the date of issuance and shall be implemented within 120 days from the date of issuance.

Amendment Nos.: 261 and 242.

Renewed Facility Operating License Nos. NPF-4 and NPF-7: Amendments revised the licenses.

Date of initial notice in Federal Register: April 6, 2010 (75 FR 17447).

The Commission's related evaluation of the amendments is contained in a Safety Evaluation dated January 26, 2011.

No significant hazards consideration comments received: No.

Virginia Electric and Power Company, et al., Docket Nos. 50-280 and 50-281, Surry Power Station, Units 1 and 2, Surry County, Virginia

Date of application for amendments: January 29, 2010.

Brief Description of amendments: These amendments revised an Emergency Action Level (EAL) scheme based on NUREG-0654, “Criteria for Preparation and Evaluation of Radiological Emergency Response Plan and Preparedness in Support of Nuclear Power Plants,” to one based on Nuclear Energy Institute (NEI) 99-01, “Methodology for Development of Emergency Action Levels,” Revision 4. This would change the methodology for deriving selected Notification of Unusual Event values in Table R-1, Gaseous Effluent Monitor Classification Thresholds, and deleting EAL RA2.4 which evaluates abnormal radiation readings at infrequently accessed areas.

Date of issuance: January 26, 2011.

Effective date: As of the date of issuance and shall be implemented within 120 days.

Amendment Nos.: 272 and 271.

Renewed Facility Operating License Nos. DPR-32 and DPR-37: Amendments revised the licenses.

Date of initial notice in Federal Register: April 6, 2010 (75 FR 17448).

The Commission's related evaluation of the amendments is contained in a Safety Evaluation dated January 26, 2011.

No significant hazards consideration comments received: No.

Dated at Rockville, Maryland this 28th day of January 2011.
For the Nuclear Regulatory Commission.
Joseph G. Giitter,
Director, Division of Operating Reactor Licensing, Office of Nuclear Reactor Regulation.

[FR Doc. 2011-2743 Filed 2-7-11; 8:45 am]

BILLING CODE 7590-01-P